GENERAL SERVICES ADMINISTRATION

[Notice-MV-2013-03; Docket No. 2013-0002; Sequence 37]

Public Availability of General Services Administration FY 2013 Federal Activities Inventory Reform (FAIR) Act Inventory

AGENCY: General Services Administration (GSA).

ACTION: Notice of public availability of FY 2013 Federal Activities Inventory Reform (FAIR) Act Inventory.

SUMMARY: In accordance with the Federal Activities Inventory Reform (FAIR) Act of 1998, Public Law 105-270, and Office of Management and Budget (OMB) Circular A-76, General Services Administration (GSA) is publishing this notice to advise the public of the availability of the FY 2013 FAIR Act Inventory.

DATES: December 9, 2013.

FOR FURTHER INFORMATION CONTACT: Questions regarding the service contract inventory should be directed to Mr. Paul F. Boyle in the Office of Acquisition Policy at 202-501-0324 or Paul.Boyle@gsa.gov.

SUPPLEMENTARY INFORMATION: In accordance with the Federal Activities Inventory Reform (FAIR) Act of 1998, Public Law 105-270, and Office of Management and Budget (OMB) Circular A-76, General Services Administration (GSA) is publishing this notice to advise the public of the availability of the FY 2013 FAIR Act Inventory. This inventory provides information on commercial and inherently governmental activities performed by GSA employees. The inventory has been developed in accordance with guidance issued on March 26, 2012, by the Office of Management and Budget's Office of Federal Procurement Policy (OFPP). OFPP's guidance is available at: www.gsa.gov/fairact. GSA has posted its inventory on the gsa.gov homepage at the following link: http://www.gsa.gov/fairact.

Dated: December 3, 2013.
Houston Taylor,
Acting Senior Procurement Executive & Deputy Chief Acquisition Officer, Office of Acquisition Policy, General Services Administration.

[FR Doc. 2013-29207 Filed 12-6-13; 8:45 am]

BILLING CODE 6820-61-P